DEPARTMENT OF ENERGY

Federal Energy Regulatory Commission

18 CFR Part 154

[Docket No. RM01-5-000]

Electronic Tariff Filings

AGENCY: Federal Energy Regulatory Commission, DOE.

ACTION: Correcting amendment.

SUMMARY: This document contains corrections to the final regulations that became effective November 3, 2008 (with implementation of the requirements beginning April 1, 2010), as published in the subsequent editions of the Code of Federal Regulations, including the 2015 edition.

DATES: Effective date: August 3, 2016.

FOR FURTHER INFORMATION CONTACT: Richard Wartchow, Office of the General Counsel, Federal Energy Regulatory Commission, 888 First Street NE., Washington, DC 20426, Telephone: 202-502-6000.

SUPPLEMENTARY INFORMATION: The Commission amended 18 CFR 154.112(a), addressing the filing of “special rate schedules,” reflecting special operating arrangements previously certificated pursuant to part 157 of the Commission's regulations (such as for the exchange of natural gas).¹

¹ Electronic Tariff Filings, Order No. 714, FERC Stats. & Regs. ¶ 31,276, 73 FR 57515 (2008) (Order No. 714).

As published in the 2015 edition of the Code of Federal Regulations, the final regulations (effective November 3, 2008) contained an error. Order No. 714 revised the fourth, fifth and sixth sentences to reflect new filing requirements. However, the published version of 18 CFR 154.112(a) incorrectly retained language from the earlier version that should have been superseded. The Commission did not intend to retain the superseded sentences. This correcting amendment removes the incorrectly-retained language. This correction does not affect 18 CFR 154.112(b) which remains unchanged.

List of Subjects in 18 CFR Part 154

Natural gas, Pipelines, Reporting and record-keeping requirements, Natural gas companies, Rate schedules and tariffs.

Accordingly, 18 CFR part 154 is corrected by making the following correcting amendments:

PART 154—RATE SCHEDULES AND TARIFFS

1. The authority citation for part 154 continues to read as follows:

Authority: 15 U.S.C. 717-717w; 31 U.S.C. 9701; 42 U.S.C. 7102-7352.

2. Section 154.112 is corrected by revising paragraph (a) to read as follows:

§ 154.112 Exception to form and composition of tariff.

(a) The Commission may permit a special rate schedule to be filed in the form of an agreement in the case of a special operating arrangement, previously certificated pursuant to part 157 of this chapter, such as for the exchange of natural gas. The special rate schedule must contain a title page showing the parties to the agreement, the date of the agreement, a brief description of services to be rendered, and the designation: “Rate Schedule X-[number].” Special rate schedules may not contain any supplements. Modifications must be made by inserting revised sheets, sections or the entire document as appropriate. Special rate schedules must be included in a separate volume of the tariff. Each such separate volume must contain a table of contents which is incorporated as a sheet or section in the open access transmission tariff.

* * * * *

Dated: July 28, 2016.
Kimberly D. Bose,
Secretary.

[FR Doc. 2016-18360 Filed 8-2-16; 8:45 am]

BILLING CODE 6717-01-P